DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: North Pacific Observer Program Safety and Security Survey.

OMB Control Number: 0648-0759.

Form Number(s): None.

Type of Request: Regular (Revision request).

Number of Respondents: 300.

Average Hours per Response: .17 (10 minutes per respondent).

Burden Hours: 50.

Needs and Uses: NMFS certified observers are a vital part of fisheries management. Observers are deployed to collect fisheries data in the field; observers often deploy to vessels and work alongside fishers for weeks and months at a time. The work environment in which observers find themselves can be challenging, especially if the observer finds themselves a target for victim type violations such as sexual harassment, intimidation, or even assault. NOAA Fisheries' Office of Law Enforcement prioritizes investigations into allegations of sexual harassment, hostile work environment, assault, and other complaints that may affect observers individually. However, it is difficult for a person to disclose if they have been a victim of a crime, and law enforcement cannot respond if no complaint is submitted. The true number of observers who have experienced victim type crimes is unknown, and the reasons why they do not report is also unclear. More information is needed to understand how many observers per year experience victim type crimes, and why they chose not to report to law enforcement.

The survey will also investigate the reasons that prevented observers from reporting these violations. The results of the survey will provide the Office of Law Enforcement a better understanding of how often observers are victimized, which will enable them to reallocate resources as needed, conduct more training for observers to ensure they know how to report, conduct training to ensure people understand what constitutes a victim crime, and to increase awareness of potential victimizations. Additionally, the survey results will help law enforcement understand the barriers to disclosure, so enforcement may begin to address these impediments so they no longer prevent observers from disclosure.

Affected Public: Individuals or households.

Frequency: Annually.

Respondent's Obligation: Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Sheleen Dumas,
Departmental Lead PRA Officer, Office of the Chief Information Officer, Commerce Department.

[FR Doc. 2019-12196 Filed 6-10-19; 8:45 am]

BILLING CODE 3510-22-P